CONSUMER PRODUCT SAFETY COMMISSION

16 CFR Part 1215

[CPSC Docket No. CPSC-2009-0064]

Third Party Testing for Certain Children's Products; Infant Bath Seats: Requirements for Accreditation of Third Party Conformity

Correction

In rule document 2010-13080 beginning on page 31688 in the issue of Friday, June 4, 2010 make the following corrections:

1. On page 31689, in the third column, in the first full paragraph, in the fourth and fifth lines, “December 1, 2010” should read “December 6, 2010”.

2. On the same page, in the same column, in the same paragraph, in the 10th and 11th lines, “December 2, 2010” should read “December 7, 2010”.

3. On page 31691, in the first column, in the second line from the top, “December 1, 2010” should read “December 7, 2010”.

[FR Doc. C1-2010-13080 Filed 6-14-10; 8:45 am]

BILLING CODE 1505-01-D